DEPARTMENT OF ENERGY

Federal Energy Regulatory Commission

Combined Notice of Filings #1

Take notice that the Commission received the following exempt wholesale generator filings:

Docket Numbers: EG15-41-000.

Applicants: Recurrent Energy, LLC.

Description: Self-Certification of EG or FC of Recurrent Energy, LLC.

Filed Date: 1/9/15.

Accession Number: 20150109-5211.

Comments Due: 5 p.m. ET 1/30/15.

Docket Numbers: EG15-42-000.

Applicants: Recurrent Energy, LLC.

Description: Self-Certification of EG or FC of Recurrent Energy, LLC.

Filed Date: 1/9/15.

Accession Number: 20150109-5216.

Comments Due: 5 p.m. ET 1/30/15.

Take notice that the Commission received the following electric rate filings:

Docket Numbers: ER13-769-000.

Applicants: Entergy Mississippi, Inc.

Description: eTariff filing per 35.19a(b): EMI-EAI Refund Report in ER13-769 to be effective N/A.

Filed Date: 1/8/15.

Accession Number: 20150108-5223.

Comments Due: 5 p.m. ET 1/29/15.

Docket Numbers: ER13-770-000.

Applicants: Entergy Louisiana, LLC.

Description: eTariff filing per 35.19a(b): ELL-EAI Refund Report in ER13-769 to be effective N/A.

Filed Date: 1/8/15.

Accession Number: 20150108-5222.

Comments Due: 5 p.m. ET 1/29/15.

Docket Numbers: ER14-1569-002; ER10-2616-007; ER11-4398-003; ER11-4400-004; ER10-3247-008; ER14-922-002; ER14-883-003; ER14-924-002.

Applicants: Dynegy Energy Services, LLC, Dynegy Marketing and Trade, LLC, Dynegy Midwest Generation, LLC, Dynegy Power Marketing, LLC, Electric Energy, Inc., Illinois Power Generating Company, Illinois Power Marketing Company, Illinois Power Resources Generating, LLC.

Description: Updated Market Power Analysis in the Central Region of the Dynegy Inc. MBR subsidiaries under ER14-1569, et. al.

Filed Date: 12/23/14.

Accession Number: 20141223-5363.

Comments Due: 5 p.m. ET 3/24/15.

Docket Numbers: ER14-2138-002.

Applicants: Limon Wind III, LLC.

Description: Notice of Non-Material Change in Status of Limon Wind III, LLC.

Filed Date: 1/8/15.

Accession Number: 20150108-5228.

Comments Due: 5 p.m. ET 1/29/15.

Docket Numbers: ER14-2751-001.

Applicants: Xcel Energy Southwest Transmission Company, LLC.

Description: Formula Rate [Pro Forma] Compliance Filing of Xcel Energy Southwest Transmission Company, LLC.

Filed Date: 1/8/15.

Accession Number: 20150108-5244.

Comments Due: 5 p.m. ET 1/29/15.

Docket Numbers: ER14-2751-002.

Applicants: Xcel Energy Southwest Transmission Company, LLC.

Description: Affiliate Cost Allocation Compliance Filing of Xcel Energy Southwest Transmission Company, LLC.

Filed Date: 1/8/15.

Accession Number: 20150108-5259.

Comments Due: 5 p.m. ET 1/29/15.

Docket Numbers: ER14-2752-001.

Applicants: Xcel Energy Transmission Development Company, LLC.

Description: Formula Rate [Pro Forma] Compliance Filing of Xcel Energy Transmission Development Company, LLC.

Filed Date: 1/8/15.

Accession Number: 20150108-5254.

Comments Due: 5 p.m. ET 1/29/15.

Docket Numbers: ER14-2752-002.

Applicants: Xcel Energy Transmission Development Company, LLC.

Description: Affiliate Cost Allocation Compliance Filing of Xcel Energy Transmission Development Company, LLC.

Filed Date: 1/8/15.

Accession Number: 20150108-5260.

Comments Due: 5 p.m. ET 1/29/15.

Docket Numbers: ER14-2956-003.

Applicants: Hoopeston Wind, LLC.

Description: Tariff Amendment per 35.17(b): hoopeston mbra amendment 4th supplement 1.8.15 to be effective 1/8/2015.

Filed Date: 1/8/15.

Accession Number: 20150108-5219.

Comments Due: 5 p.m. ET 1/20/15.

Docket Numbers: ER14-2956-004.

Applicants: Hoopeston Wind, LLC.

Description: Tariff Amendment per 35.17(b): hoopeston mbra amendment format correction 1.9 to be effective 1/9/2015.

Filed Date: 1/9/15.

Accession Number: 20150109-5084.

Comments Due: 5 p.m. ET 1/20/15.

Docket Numbers: ER15-106-000.

Applicants: Trans-Allegheny Interstate Line Company, West Penn Power Company, The Potomac Edison Company, Monongahela Power Company, Pennsylvania Electric Company, PJM Interconnection, L.L.C.

Description: eTariff filing per 35.19a(b): First Energy TOs submit Refund Report under Docket No. ER15-106-000 to be effective N/A.

Filed Date: 1/9/15.

Accession Number: 20150109-5147.

Comments Due: 5 p.m. ET 1/30/15.

Docket Numbers: ER15-135-001.

Applicants: PJM Interconnection, L.L.C.

Description: Compliance filing per 35: Compliance Filing per December 19, 2014 Order in Docket No. ER15-135-000 to be effective 12/19/2014.

Filed Date: 1/9/15.

Accession Number: 20150109-5155.

Comments Due: 5 p.m. ET 1/30/15.

Docket Numbers: ER15-600-002.

Applicants: ISO New England Inc.

Description: Tariff Amendment per 35.17(b): Amendment to Information Policy to be effective 2/9/2015.

Filed Date: 1/9/15.

Accession Number: 20150109-5095.

Comments Due: 5 p.m. ET 1/20/15.

Docket Numbers: ER15-605-001.

Applicants: Solea PJM, LLC.

Description: Tariff Amendment per 35.17(b): Amended MBR Tariff Filing to be effective 2/1/2015.

Filed Date: 1/9/15.

Accession Number: 20150109-5092.

Comments Due: 5 p.m. ET 1/30/15.

Docket Numbers: ER15-833-000.

Applicants: Xcel Energy Services Inc.

Description: Petition of Xcel Energy Transmission Holding Company, LLC for Waiver of Affiliate Transaction Pricing Rule.

Filed Date: 1/8/15.

Accession Number: 20150108-5235.

Comments Due: 5 p.m. ET 1/29/15.

Docket Numbers: ER15-834-000.

Applicants: Illinois Municipal Electric Agency.

Description: Request of the Illinois Municipal Electric Agency for a Limited Waiver of Tariff Provisions.

Filed Date: 1/8/15.

Accession Number: 20150108-5236.

Comments Due: 5 p.m. ET 1/29/15.

Docket Numbers: ER15-835-000.

Applicants: Midcontinent Independent System Operator, Inc.

Description: § 205(d) rate filing per 35.13(a)(2)(iii): 2015-01-09_SA 1830 Duke Energy Certificate of Concurrence to be effective 11/10/2014.

Filed Date: 1/9/15.

Accession Number: 20150109-5156.

Comments Due: 5 p.m. ET 1/30/15.

Docket Numbers: ER15-836-000.

Applicants: Entergy Louisiana, LLC.

Description: § 205(d) rate filing per 35.13(a)(2)(iii): ELL MSS-4 Agreements to be effective 12/24/2014.

Filed Date: 1/9/15.

Accession Number: 20150109-5161.

Comments Due: 5 p.m. ET 1/30/15.

Docket Numbers: ER15-837-000.

Applicants: Midcontinent Independent System Operator, Inc.

Description: § 205(d) rate filing per 35.13(a)(2)(iii): 2015-01-09_Entergy Succession SA 863 & SA 890 to be effective 12/19/2013.

Filed Date: 1/9/15.

Accession Number: 20150109-5222.

Comments Due: 5 p.m. ET 1/30/15.

Docket Numbers: ER88-31-008; ER88-32-008; EL88-1-009.

Applicants: Indiana Michigan Power Company.

Description: Report for 2014 on review of nuclear decommissioning costs and FERC wholesale requirement customer contributions of Indiana Michigan Power Company.

Filed Date: 1/8/15.

Accession Number: 20150108-5263.

Comments Due: 5 p.m. ET 1/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2015.
Nathaniel J. Davis, Sr.,
Deputy Secretary.

[FR Doc. 2015-00727 Filed 1-16-15; 8:45 am]

BILLING CODE 6717-01-P